DEPARTMENT OF COMMERCE

Census Bureau

Agency Information Collection Activities; Submission to the Office of Management and Budget (OMB) for Review and Approval; Comment Request; Generic Clearance for Emergency Economic Information Collections

AGENCY: Census Bureau, Commerce.

ACTION: Notice of Information Collection, request for comment.

SUMMARY: The Department of Commerce, in accordance with the Paperwork Reduction Act (PRA) of 1995, invites the general public and other Federal agencies to comment on proposed and continuing information collections, which helps us assess the impact of our information collection requirements and minimizes the public's reporting burden. The purpose of this notice is to allow for 60 days of public comment on the proposed new information collection, Generic Clearance for Emergency Economic Information Collections, prior to the submission of the information collection request (ICR) to OMB for approval.

DATES: To ensure consideration, comments regarding this proposed information collection must be received on or before April 9, 2021.

ADDRESSES: Interested persons are invited to submit written comments by email to Thomas.J.Smith@census.gov. Please reference Generic Clearance for Emergency Economic Information Collections in the subject line of your comments. You may also submit comments, identified by Docket Number USBC-2021-0003, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Lisa Donaldson, Chief, Economic Management Division, (301)763-7296, and lisa.e.donaldson@census.gov.

SUPPLEMENTARY INFORMATION:

I. Abstract

The U.S. Census Bureau plans to request Office of Management and Budget (OMB) approval for a 3-year period, for a new Generic Information Collection that provides the quick turn-around necessary for conducting emergency economic information collections (EEIC) in response to unanticipated international, national or regional emergencies having a significant economic impact on businesses and/or state or local governments. The purpose of the collections will be to gauge and monitor the economic impact of such events on U.S. businesses and organizations.

The Coronavirus pandemic, in addition to having devastating effects on the health and wellbeing of the global population, has had a profound effect on the world economy. The Census Bureau, in carrying out its mission to serve as the nation's leading provider of quality data about its people and economy, has sought to measure the effect on U.S. businesses through supplemental questions added to several of its recurring business surveys and a new survey meant to measure the effect of the pandemic on businesses. Due to the need to collect data on a timely basis, the Census Bureau submitted these requests to the Office of Management and Budget under the emergency processing provisions of the Paperwork Reduction Act (PRA). Although that process allowed us to implement the collections in a timely manner, information collections cleared under the emergency processing provisions of the PRA are limited to a 6-month clearance period. This hampered our efforts to collect data on an ongoing basis as the Pandemic continued throughout 2020 and beyond. We believe that a generic clearance will benefit the Census Bureau, the reporting public, and the many stakeholders who will have great need for information during times of future unanticipated events.

Procedurally, the generic clearance will operate in the following manner: The Census Bureau will first obtain OMB clearance under the regular processing provisions of the PRA for the initial generic clearance. The clearance request will define the scope and overall burden of information collections to be conducted under the generic clearance. As future triggering emergencies arise, the Census Bureau will submit quick turnaround requests to OMB which will document the circumstances requiring the EEIC and will include the specific question(s) to be asked. The questions will be chosen from a pretested bank of questions. The question bank will be submitted to OMB for approval along with the initial generic clearance request. The Census Bureau will ask that OMB review and act on requests for individual EEIC's within 72 hours. Information collections conducted under the generic clearance will last a maximum of 6 months. A new quick turnaround request may be submitted under the generic clearance if the Census Bureau determines the need to continue the collection past 6 months.

Events that could trigger the need for an EEIC may have global, national, or regional impact and may include:

—Pandemic or other health emergency

—Natural or manmade disaster

—New legislation

—Economic crisis

As mentioned above, the Census Bureau is developing and cognitively testing a question bank it will utilize to create EEICs. The question bank may, for some subjects, include specific questionnaire content. In other cases, the bank may include topics which will then be addressed with questions developed to meet data needs that arise during a future unknown event.

As data collections will be tailored to the emergency, users of the data may vary, but may include: Federal, state, or local officials charged with decision-making during the emergency; business leaders and policymakers wishing to develop plans to ameliorate the effects of the emergency; academics and members of the press wishing to study and disseminate information about the emergency; and the public. The data collected would help us understand how and why data we collect in our ongoing surveys may be affected by the emergency, as well as allow us to disseminate data as part of existing releases, new releases, or experimental releases.

II. Method of Collection

EEIC questions may be included as supplemental questions on existing Census Bureau surveys or conducted as new surveys. The data will be collected by paper or electronic instruments, depending on the survey or program.

III. Data

OMB Control Number: 0607-XXXX.

Form Number(s): None.

Type of Review: Regular submission, Regular Submission, New Information Collection Request.

Affected Public: Business or other for-profit organizations; Not-for-profit institutions; State, Local, or Tribal government.

Estimated Number of Respondents: 300,000.

Estimated Time per Response: 10 minutes.

Estimated Total Annual Burden Hours: 50,000.

Estimated Total Annual Cost to Public: $0 (This is not the cost of respondents' time, but the indirect costs respondents may incur for such things as purchases of specialized software or hardware needed to report, or expenditures for accounting or records maintenance services required specifically by the collection.)

Respondent's Obligation: EEIC questions appearing on a voluntary collection would be voluntary. EEIC questions appearing on a mandatory collection would be mandatory. When an EEIC is conducted as a new survey, that survey will be voluntary.

Legal Authority: EEIC collections are authorized under Title 13 U.S.C., Sections 131, 161, 182, and 196.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-02565 Filed 2-5-21; 8:45 am]

BILLING CODE 3510-07-P